DEPARTMENT OF TRANSPORTATION

Federal Aviation Administration

[Policy Statement Number ANM-99-2]

Guidance for FAA Review of Certification Plans To Address Human Factors for Certification of Transport Airplane Flight Decks

AGENCY: Federal Aviation Administration, DOT.

ACTION: Disposition of comments on notice of policy statement.

SUMMARY: In this document, the FAA addresses public comments that were submitted in response to a previously published general statement of policy that is applicable to the type certification process of transport category airplanes. The policy provides guidance to FAA Certification Teams that will enable them to conduct an effective review of an applicant's Human Factors Certification Plan or the human factors components of a general Certification Plan, when one is submitted as part of a type certification (TC), supplemental type certification (STC), or amended type certificate (ATC) project. This notice is to advise the public of the FAA's response to the comments that were submitted.

FOR FURTHER INFORMATION CONTACT: Sharon Hecht, Federal Aviation Administration, Transport Airplane Directorate, Transport Standards Staff, Airplane & Flight Crew Interface Branch, ANM-111, 1601 Lind Avenue SW., Renton, Washington 98055-4056; telephone (425) 227-2398; facsimile (425) 227-1100; e-mail: sharon.hecht@faa.gov.

SUPPLEMENTARY INFORMATION:

Background

On October 6, 1999, the FAA published in the Federal Register (64 FR 54399) a general statement of policy comprising guidance to FAA personnel for reviewing certain certification plans for transport category airplanes. Specifically, the policy statement provided internal guidance to FAA Certification Teams that will enable them to conduct an effective review of an applicant's Human Factors Certification Plan (or the human factors components of a general Certification Plan), when one is submitted at the beginning of a type certification (TC), supplemental type certification (STC), or amended type certificate (ATC) project. The guidance described the sections of a typical Human Factors Certification Plan and the information that would be appropriate for inclusion in each section. The purpose of a Human Factors Certification Plan is to facilitate the establishment early on of an effective working relationship and agreement between the FAA and the applicant about the means by which human factors issues will be addressed during a certification project.

Although the policy was intended for internal use by FAA Certification Teams, the FAA published it in the Federal Register to notify the public about it, and invited comments from the public on the policy. The FAA has given due consideration to the comments received, and this notice provides the FAA's disposition of those comments.

Disposition of Comments

The FAA received comments on the policy statement submitted by six commenters, representing aviation industry groups and manufacturers.

Two commenters support the intent of the policy.

Several of the commenters suggest certain editorial changes (i.e., word choices, formatting, and additional references) to improve the clarity and readability of the policy. The FAA may consider these suggested changes if the policy statement is updated and republished in the future.

The remainder of the comments generally fall within three specific subject areas. These are addressed below.

1. Status and Effect of the General Statement of Policy

Many of the comments concerned the nature of policy statements overall and the policy process in particular. The commenters question the “effect” of the policy, and whether the policy is “proposed” or “final.” One commenter is not clear if the policy statement “has reached the stage of being official FAA policy.” One commenter refers to the policy as “interim,” while another considers it to be “proposed.”

Another commenter is concerned that the policy, while not creating any new rules, implies new requirements or practices. This commenter notes that the policy statement contained several examples where the discussion moved into methods and processes for compliance that would be “more appropriate as guidance material.” This commenter also is concerned about updating the policy statement's appendices on a continuing basis (as was indicated in the notice). The commenter contends that the practice of updating material of this kind without prior public review “appears to be outside the current practices of generation of advisory and rulemaking material.”

As evidenced from these comments, the FAA acknowledges that there clearly is some confusion regarding the effect, intent, and meaning of published general statements of policy. In an effort to clarify this issue, the FAA offers the following explanation:

In a commitment to bring more transparency to government, Federal agencies have begun to publish in the Federal Register general statements of policy concerning internal processes and procedures. By doing this, agencies are providing the public with access to information that previously would have been released only as internal agency memos and directives.

A general statement of policy may be issued for different purposes, including:

• To advise the public of the manner in which the agency will exercise a discretionary power in subsequent adjudications or through rulemaking; or

• To provide guidance to agency officials in exercising their discretionary powers (and, at the same time, notify the public of this guidance).

A general statement of policy may be issued to different audiences: Often policy statements address agency personnel, and sometimes they address the public.

A general statement of policy is “non-binding.” This means that it does not constitute a new regulation and the agency cannot apply or rely upon it as law. Because they are non-binding, general statements of policy preserve the flexibility of the affected agency personnel and their opportunity to make individualized determinations.

When a general statement of policy only announces what the agency has established as a policy, and/or merely provides guidance to agency officials in exercising their discretionary powers, a public notice-and-comment procedure is not required under the Administrative Procedure Act. Unless the issuing agency specifically states that the policy is “proposed” and requests comments from the public to help in developing the final policy, a general statement of policy may be considered effective when it is published in the Federal Register (and it may have been in effect within the agency even before publication).

In the case of the general statement of policy that is the subject of this notice, the FAA issued it as internal guidance to FAA Certification Teams. As indicated in the published policy statement, this guidance was necessary because increasing numbers of applicants have asked for assistance from the FAA in developing Human Factors Certification Plans. Given this trend, the Transport Airplane Directorate developed this guidance to assist FAA Certification Team members in working with applicants who are attempting to develop Human Factors Certification Plans, as well as in reviewing these plans after they have been submitted. The guidance provided is based on current regulations and practices; it does not add any new requirements.

Although the policy was directed toward FAA personnel, the FAA considered that it also would be of use to applicants: If applicants were to develop a Certification Plan, they could use the information in the policy statement as a basis for communicating their approach to addressing the human factors aspects of their project.

Although this policy is new, and may change as issues, technology, and regulations evolve, the FAA considers it to be currently in effect. FAA personnel have the discretion of applying the policy's guidelines, or not applying them when inappropriate.

2. The Current Need for the Policy

Some commenters state that the policy is premature and should not be issued at this time for use in type certification programs. These commenters state that there is no current official requirement for a Human Factors Certification Plan, and the policy will only lead to confusion for applicants, aircraft manufacturers, and regulatory authorities. Several commenters suggest that the policy will require significant interpretation by the FAA Certification Teams and personnel at FAA Aircraft Certification Offices (ACO). These commenters also state that human factors issues in flight deck design are complex and there are other on-going efforts (discussed below) in place that will better address them on an international scale. These commenters suggest that the FAA reconsider the need for this policy at this time.

The FAA does not concur with these commenters' suggestion that the policy is not needed. The FAA has placed great emphasis not only on the importance of human factors in design and certification, but on the need to define and understand how to apply human factors practices to our existing processes. The intent of the published general statement of policy was to address that need.

While it is true that there is no regulatory requirement for a “Human Factors Certification Plan” (or for a certification plan of any kind, for that matter), already many applicants for certification projects have developed such plans to communicate their approach to the identification and resolution of human factors issues. This type of plan is proving to be an effective means by which to establish an early and formal written agreement between the applicant and FAA on the certification basis, the methods of compliance, and the schedules for completing the certification project. This approach has helped FAA Certification Teams address issues early in the certification process, thereby decreasing the applicant's certification risk in cost or schedule.

As stated previously, the number of applicants asking for assistance from the FAA in developing and/or reviewing Human Factors Certification Plans has increased in recent years. In light of this, the FAA has seen a clear need to provide guidance at this time to FAA Certification personnel to assist them in helping these applicants develop plans, as well as in reviewing the plans that are submitted. The FAA considers that this formal internal policy is necessary to ensure standardization of internal procedures and consistent application of human factors in the certification process.

Accordingly, the FAA regards the guidance as necessary, and does not consider it premature.

3. The Task of the Human Factors Harmonization Working Group

Several of the commenters express concern that the development of guidance, such as that provided in the policy statement, should have been left to the Human Factors Harmonization Working Group (HFHWG). That Working Group was established (64 FR 39553, July 22, 1999) under the aegis of the FAA-sponsored Aviation Rulemaking Advisory Committee (ARAC), and its members represent human factors experts from the aviation community and government authorities. The FAA tasked ARAC to provide advice and recommendations as to the need for regulations and/or advisory material to address flight crew error and flight crew performance considerations in the flight deck certification process. Subsequently, ARAC asked the HFHWG to address this task.

One commenter states that by issuing the policy statement, the FAA appears “to be attempting to bypass the purpose of the HFHWG or to potentially compromise that Group's efforts.” Several of the commenters state that the FAA should not issue the policy as official policy/guidance until the HFHWG activities are complete. One commenter states that existing regulations, advisory material, and manufacturers' human factors certification policies adequately cover the interim period pending completion of the HFHWG's activities. These commenters assert there should not be separate FAA and HFHWG activity on human factors issues, since it will likely lead to controversies, inconsistent application of guidance/policy, and dilution of the work of the HFHWG.

For several reasons, the FAA does not concur with the commenters' assertions that the HFHWG is the appropriate entity for issuing guidance such as that contained in the policy statement.

First, the described policy relates to an internal FAA process. Such processes are developed independent of ARAC activities, and the role of ARAC groups does not include defining how the FAA operates internally.

Second, the HFHWG was tasked with activities that are different from and beyond the guidance provided by the policy statement. The HFHWG is to review relevant existing regulations and advisory material, and make recommendations about what regulatory standards and/or advisory material should be updated or developed to consistently address (1) design-related flight crew performance vulnerabilities, and (2) prevention and management of flight crew error. In contrast, the policy statement describes methods for considering applicants' proposals for compliance with existing requirements. The possible products of the HFHWG activity may or may not include the information and material that is provided in the policy statement. It is doubtful that the HFHWG will be focusing much attention on the substance of the guidance contained in the policy statement.

Third, the activities of the HFHWG are not scheduled to be completed until approximately July 2002. As discussed previously, the FAA saw a need for issuing the guidance as soon as practicable to serve as an aid to FAA personnel in new certification projects.

For these reasons, the FAA does not agree that the issuance of the policy statement in any way circumvents the on-going work of the HFHWG. In the long term, both the policy statement and the product(s) of the HFHWG will serve as important initial steps in facilitating the institutionalization of formal procedures that systematically incorporate human factors considerations into all aspects of airplane design and certification.

Conclusion

After due consideration of the public comments submitted, the FAA finds no reason to amend or otherwise modify the general statement of policy as previously published.

Issued in Renton, Washington, on April 6, 2000.
Vi L. Lipski,
Acting Manager, Transport Airplane Directorate, Aircraft Certification Service.

[FR Doc. 00-9214 Filed 4-12-00; 8:45 am]

BILLING CODE 4910-13-P